DEPARTMENT OF TRANSPORTATION

Federal Aviation Administration

Commercial Space Transportation Advisory Committee—Open Meeting

AGENCY: Federal Aviation Administration (FAA), DOT.

ACTION: Notice of Commercial Space Transportation Advisory Committee open meeting.

SUMMARY: Pursuant to Section 10(a)(2) of the Federal Advisory Committee Act (Pub. L. 92-463, 5 U.S.C. App. 2), notice is hereby given of a meeting of the Commercial Space Transportation Advisory Committee (COMSTAC). The meeting will take place on Thursday, October 13, 2011, from 8 a.m. to 5 p.m., and Friday, October 14, 2011, from 8 a.m. to 4:30 p.m., at the National Housing Center, 1201 15th Street NW., Washington, DC, 20005. This will be the 54th meeting of the COMSTAC.

The proposed agenda for October 13 features meetings of the working groups as follows:

—Export Controls (8 a.m.-10 p.m.)

—Space Transportation Operations (10 a.m.-12 a.m.)

—Reusable Launch Vehicles (1 p.m.-3 p.m.)

—Risk Management (3 p.m.-5 p.m.)

The proposed agenda for October 14 features:

—Speakers relevant to the commercial space transportation industry, including invitees from the U.S. Department of State and Department of Defense;

—Invited speaker from the FAA NextGen Office;

—Reports and recommendations from the working groups.

Interested members of the public may submit relevant written statements for the COMSTAC members to consider under the advisory process. Statements may concern the issues and agenda items mentioned above and/or additional issues that may be relevant for the U.S. commercial space transportation industry. Interested parties wishing to submit written statements should contact Susan Lender, DFO, (the Contact Person listed below) in writing (mail or e-mail) by October 5, 2011, so that the information can be made available to COMSTAC members for their review and consideration before the October 13 and 14, 2011 meetings. Written statements should be supplied in the following formats: One hard copy with original signature and/or one electronic copy via e-mail.

Subject to approval, a portion of the October 14th meeting will be closed to the public (starting at approximately 3 p.m.).

An agenda will be posted on the FAA Web site at http://www.faa.gov/go/ast. For specific information concerning the times and locations of the COMSTAC working group meetings, contact the Contact Person listed below.

Individuals who plan to attend and need special assistance, such as sign language interpretation or other reasonable accommodations, should inform the Contact Person listed below in advance of the meeting.

FOR FURTHER INFORMATION CONTACT: Susan Lender (AST-5), Office of Commercial Space Transportation (AST), 800 Independence Avenue SW., Room 331, Washington, DC 20591, telephone (202) 267-8029; E-mail susan.lender@faa.gov. Complete information regarding COMSTAC is available on the FAA Web site at: http://www.faa.gov/about/office_org/headquarters_offices/ast/advisory_committee/.

Issued in Washington, DC, August 11, 2011.
George C. Nield,
Associate Administrator for Commercial Space Transportation.

[FR Doc. 2011-21072 Filed 8-17-11; 8:45 am]

BILLING CODE 4910-13-P